NUCLEAR REGULATORY COMMISSION

Carolina Power and Light Company, Duke Energy Corporation, Entergy Nuclear Operations, Inc., R. E. Ginna Nuclear Power Plant, LLC, Receipt of Request for Action Under 10 CFR 2.206

Notice is hereby given that by petition dated May 12, 2005, Mr. Paul Gunter, on behalf of Nuclear Information and Resource Service, Citizens Awareness Network (CAN), Indian Point Safe Energy Coalition, North Carolina Waste Awareness and Reduction Network (NCWARN), Alliance for Affordable Energy, and Blue Ridge Environmental Defense League (the Petitioners), has requested that the NRC engage emergency enforcement actions to modify and/or suspend operating licenses for Shearon Harris Nuclear Power Station Unit 1, Docket No. 50-400, License No. NPF-63; H. B. Robinson Unit 2, Docket No. 50-261, License No. DPR-23; McGuire Units 1 and 2, Docket No. 50-369, License No. NPF-9; Catawba Units 1 and 2, Docket Nos. 50-413 and 50-414, License Nos. NPF-35 and NPF-52; Ginna, Docket No. 50-244, License No. DPR-18; James A. FitzPatrick, Docket No. 50-333, License No. DPR-59; Indian Point Units 2 and 3, Docket Nos. 50-247 and 50-286, License Nos. DPR-26 and DPR-64; Vermont Yankee, Docket No. 50-271, License No. DPR-28; Waterford Unit 3, Docket No. 50-382, License No. NPF-38; and Arkansas Nuclear One Units 1 and 2, Docket No. 50-313 and 50-368, License No. DPR-51 and NPF-6, with regard to potential violations of NRC regulations for fire protection under Title 10 of the Code of Federal Regulations (10 CFR) part 50. Specifically, the petition requested emergency enforcement under 10 CFR 2.206 to include following actions by the Commission:

(1) Collect information through generic communication with nuclear industry and specifically with the named reactor sites to determine the extent of condition of the inoperable fire barriers; including the requirement that the licensees conduct a full inventory of the type Hemyc/MT to include the amount in linear and square footage, its specific applications, and the identification of safe shutdown systems which are currently unprotected by the noncompliance and an assessment of the safety significance of each application;

(2) The communication should require, at minimum that the above named sites provide justification for operation in non-compliance with all applicable fire protection regulations; and

(3) With the determination that any and/or all of the above mentioned sites are operating in unanalyzed condition and/or that assurance of public health and safety is degraded, promptly order a suspension of the license or a power reduction of the affected reactors until such time as it can be demonstrated that the licensees are operating in conformance with all other applicable fire protection regulations.

The request is being treated pursuant to 10 CFR 2.206, of the Commission's regulations. The request has been referred to the Director of the Office of Nuclear Reactor Regulation. As provided by 10 CFR 2.206, appropriate action will be taken on this petition within a reasonable time. Mr. Paul Gunter, as Director of the Reactor Watchdog Project for Nuclear Information and Resource Service, Debbie Katz of CAN, and Jim Warren of NCWARN, participated in a telephone conference call with the NRC's Petition Review Board (PRB) on June 1, 2005, to discuss the petition. The results of that discussion were considered in the PRB's determination regarding the petitioner's request for action and in establishing the schedule for the review of the petition. During the June 1, 2005, PRB conference call, the petitioners requested that the NRC consider other fire barrier issues beyond the Hemyc electric raceway fire barrier system. This request will not be accepted under the 2.206 process because the petitioner did not provide adequate information to justify expanding the scope of the review.

A copy of the petition and the transcript of the telephone conference call are available for inspection at the Commission's Public Document Room (PDR), located at One White Flint North, Public File Area O1 F21, 11555 Rockville Pike (first floor), Rockville, Maryland, and from the NRC's Agencywide Documents Access and Management System (ADAMS), Public Electronic Reading Room, on the Internet at the NRC Web site, http://www.nrc.gov/reading-rm/adams.html (ADAMS Accession Nos. ML051440209 and ML051640452). Persons who do not have access to ADAMS or who encounter problems in accessing the documents located in ADAMS, should contact the NRC PDR Reference staff by telephone at 1-800-397-4209 or 301-415-4737, or by e-mail to pdr@nrc.gov.

Dated at Rockville, Maryland, this 27th day of June 2005.
For the Nuclear Regulatory Commission.
J.E. Dyer, Director,
Office of Nuclear Reactor Regulation.

[FR Doc. 05-12990 Filed 6-30-05; 8:45 am]

BILLING CODE 7590-01-P